DEPARTMENT OF TRANSPORTATION

Surface Transportation Board

[STB Finance Docket No. 34759]

Mohall Central Railroad, Inc.—Acquisition and Operation Exemption—Rail Line of BNSF Railway Company

Mohall Central Railroad, Inc. (MCR), a Class III rail carrier, has filed a verified notice of exemption under 49 CFR 1150.41 to acquire from BNSF Railway Company approximately 69.15 miles of rail line between milepost 72.9 at Sarles, ND, and milepost 3.75 near Lakota, ND. MCR states that, pursuant to an operating agreement between it and Northern Plains Railroad, Inc. (NPR), NPR will operate the line, and that a track connection between NPR and the acquired line will be constructed near Munich, ND.¹

MCR certifies that its projected annual revenues as a result of the transaction will not exceed those that would qualify it as a Class III rail carrier and will not exceed $5 million.

¹ Under 49 U.S.C 10902 and the Board's rules at 49 CFR 1150.41, if NPR intends to operate the line, it must file a request with the Board for authority prior to commencing operations. In addition, under 49 U.S.C. 10901, construction authority will be required to build the connecting track.

Consummation is scheduled to take place on October 18, 2005 (the exemption became effective October 10, 2005, 7 days after filing).

If the verified notice contains false or misleading information, the exemption is void ab initio. Petitions to revoke the exemption under 49 U.S.C. 10502(d) may be filed at any time. The filing of a petition to revoke will not automatically stay the transaction.

An original and 10 copies of all pleadings, referring to STB Finance Docket No. 34759, must be filed with the Surface Transportation Board, 1925 K Street, NW., Washington, DC 20423-0001. In addition, a copy of each pleading must be served on Byron D. Olsen, 1543 Grantham Street, St. Paul, MN 55108-1449.

Board decisions and notices are available on our Web site at http://www.stb.dot.gov.

Dated: October 17, 2005.
By the Board, David M. Konschnik, Director, Office of Proceedings.
Vernon A. Williams,
Secretary.

[FR Doc. 05-21209 Filed 10-24-05; 8:45 am]

BILLING CODE 4915-01-P